DEPARTMENT OF TRANSPORTATION

Maritime Administration

Buy America Waiver Notification

AGENCY: Maritime Administration, U.S. Department of Transportation.

ACTION: Notice.

SUMMARY: This notice provides information regarding MARAD's finding that a Buy America waiver, stated in 41 U.S.C. 10b, is appropriate for the purchase of foreign Mobile Harbor Cranes in the Federal-aid/TIGER II grant for the Port of Providence. The waiver for this project involves the purchase and use of specific items that are not produced in the United States and deemed necessary for the construction of the project. MARAD has reached out to industry on the domestic availability of these items. No domestic manufacturers have been located.

The Port of Providence's TIGER II project is to expand and upgrade the Port of Providence in Rhode Island. TIGER II dollars in the amount of $10.5 million will help replace two aged diesel cranes, one of which is currently non-functional, with new electric, barge-based cranes that will enable the Port to handle container traffic. Replacing these cranes will allow the port to expand its container short sea shipping operation, help relieve bottlenecks along the I-95 corridor, and support jobs in and around the economically distressed are of Providence.

This waiver is being requested because mobile harbor cranes are not produced in the United States. These cranes are considered to be specialized equipment and other types of cranes cannot be adapted to meet the mobility, lift, precision, and efficiency requirements necessary for marine cargo operations at the Port of Providence. MARAD has consulted and coordinated directly with appropriate industry associations and has determined that it has been more than 15 years since cranes of this type were manufactured in the United States. It should also be noted, the purchase of foreign built cranes to complete this, and other port development projects, is only one part of the overall port modernization and expansion effort. All other materials used in the construction of all port construction projects will be produced in the United States, and MARAD has been working with the Manufacturing Extension Partnership, under the National Institute of Standards and Technology, to identify manufacturing opportunities for domestic harbor crane construction and repair.

DATES: The effective date of the waiver is March 17, 2011.

FOR FURTHER INFORMATION CONTACT: For questions about this notice, please contact Mr. Anthony Shuler Jr., MARAD Office of Infrastructure Development and Congestion Mitigation, (202) 366-6639, or via e-mail at Anthony.L.Shuler@dot.gov. For legal questions, please contact Jeff Vogel, MARAD, Office of the Chief Counsel, (202) 493-0307 or via e-mail at Jeff.Vogel@dot.gov .

SUPPLEMENTARY INFORMATION:

Electronic Access

An electronic copy of this document may be downloaded from the Federal Register's home page at: http://www.archives.gov and the Government Printing Office's database at: http://www.access.gpo.gov/nara.

Background

Congress has enacted a Buy American provision which requires manufactured goods that are permanently incorporated into a project that is funded with Federal-aid funds to be produced in the United States. The application of Buy American is triggered by the obligation of Federal funds to a project. Once Federal-aid funds are obligated to a project, then all steel or manufactured goods incorporated into the project must be produced in the United States. The specific statutory requirement reads as follows:

Notwithstanding any other provision of law, and unless the head of the department or independent establishment concerned shall determine it to be inconsistent with the public interest, or the cost to be unreasonable, only such unmanufactured articles, materials, and supplies as have been manufactured in the United States substantially all from articles, materials, or supplies mined, produced, or manufactured, as the case may be in the United States, shall be acquired for public use. 41 U.S.C. 10a.

Under 41 U.S.C. 10b, the Secretary may waive the Buy American requirements for specific articles, materials, or supplies on a Federal-aid construction project when with respect to those articles, materials, or supplies it is impracticable to require adherence with the Buy American Act or such a requirement would unreasonably increase the project cost.

The waiver process is initiated by the requesting organization when it believes that a waiver is warranted pursuant to any of the waiver provisions under 41 U.S.C. 10b. MARAD develops findings and justifications for the waiver and publishes the decision in the Federal Register. MARAD's publication of its Buy American decision is required pursuant to the Buy American Act, 41 U.S.C. 10b. The effective date of the waiver is the date following publication of the Federal Register.

Authority: 41 U.S.C. 10a.

By Order of the Maritime Administrator.
Dated: March 10, 2011.
Christine Gurland,
Secretary, Maritime Administration.

[FR Doc. 2011-6103 Filed 3-15-11; 8:45 am]

BILLING CODE 4910-81-P